DEPARTMENT OF STATE

[Public Notice 4176]

Bureau of Educational and Cultural Affairs Request for Grant Proposals: Islamic Countries Youth Initiative Academic Studies Program

SUMMARY: The Youth Programs Division, Office of Citizen Exchanges of the Bureau of Educational and Cultural Affairs announces an open competition for grants in support of projects to bring to the United States high school students from countries with significant Muslim populations to attend school and live with host families. Public and private non-profit organizations meeting the provisions described in Internal Revenue Code section 26 U.S.C. 501(c)(3) and public institutions may submit proposals to carry out projects for academic semester and year study, as described below.

Program Information

Overview

The goal of the program is to foster a community of shared interests and values developed through better mutual understanding through first-hand participation in an exchange. The objectives are to: Provide the opportunity for young people in selected countries to learn more about American society, people, institutions, values and culture; foster personal ties; enhance American understanding of the foreign students' countries and cultures; and support program alumni to put the knowledge and skills acquired on the exchange to good use in their home countries. The program seeks to select students with leadership potential and to develop their leadership skills while in the U.S. and when they return home.

This initiative is intended to lay a solid foundation for future exchanges by investing in the infrastructure in the U.S. and overseas necessary to ensure fulfillment of the exchange program's objectives. Funding will support pilot semester and year exchanges and incorporate lessons learned into perfecting the model for conducting future programs. Grants will be awarded both to organizations that have the necessary infrastructure and experience conducting academic high school exchange programs with the partner countries, as well as to those that seek to collaborate with the Bureau in building the necessary infrastructure for exchanges with the partner countries where this does not currently exist. The timing of grant awards and the amount of funding for this initiative are subject to the availability of money that will be transferred to the Bureau.

Guidelines

The partner countries for this pilot initiative will be selected based on a number of factors: (1) Foreign policy considerations, (2) a favorable climate for exchange, (3) data collected through an independent research study commissioned by the Bureau, and (4) the ability of the private sector to administer exchange programs, as demonstrated by the response to this RFGP. The tentative list includes: Afghanistan, Algeria, Bahrain, Bangladesh, Egypt, Ethiopia, India, Indonesia, Jordan, Kuwait, Lebanon, Malaysia, Morocco, Nigeria, Oman, Pakistan, Philippines, Qatar, Saudi Arabia, Senegal, Syria, Tunisia, Turkey, United Arab Emirates, West Bank/Gaza, and Yemen. The Bureau reserves the right to amend this list at any time as conditions change.

There are two phases that will be funded simultaneously. Phase I—As noted above, a portion of the funding will be awarded to organizations that (1) have in place the existing infrastructure in the U.S. and in the partner countries to undertake a program with the required quality features, as outlined in this RFGP and supplementary documents; (2) have a recent track record of successfully conducting high school academic year exchanges with the partner countries; and (3) demonstrate their ability to comply with all requirements for administering federal grants, including the relevant J-1 visa regulations. To be eligible for this phase of the initiative, the grantee organization must be already designated by the Department of State as a secondary school student exchange visitor sponsor. The Bureau expects to be able to make award decisions by April 1, 2003. It is anticipated that participants selected for participation in phase I programs will travel to the U.S. in the summer of 2004 for the 2004-05 academic year. In the unlikely event the grants can be awarded in time to enable an organization to screen, select, orient and place scholarship winners for participation in the 2003-04 academic year, this is a possibility. As an alternative, grant recipients may bring a contingent of students to the U.S. for the spring 2004 semester. Approximately $2,000,000 is available for phase I grants, including funds earmarked for a special project for Indonesia.

Phase II—In the second phase of the program, the Bureau seeks to award grant funding to assist in the establishment of academic year exchanges with countries where no or inadequate capability exists at the present time. The goal is to encourage organizations to form partnerships, consortia, and other arrangements to pool resources that will result in successful exchange activity. J-1 visa designation is not a requirement, but a thorough understanding of the secondary school student exchange visitor regulations is essential. Funding availability is April 1, 2003, the same as in phase I. Because of the longer lead time needed for phase II, exchange participants will not begin their programs before the 2004-05 academic year, at the earliest, and may also participate in the 2005-06 academic year. Approximately $4,500,000 is available for phase II grants.

The following apply to both phases of this program:

1. While the emphasis is on bringing foreign students to the U.S., programs that provide opportunities for American high school students to study in the partner countries for a semester or year are eligible for consideration.

2. The essential components for all academic study projects undertaken with Bureau grant funding are: Collaboration with American embassies overseas in planning and implementing the exchange; an open, merit-based recruitment and selection process; testing for adequate English language ability for foreign participants; in-country pre-departure orientation; placement in schools that are committed to pursuing the program's objectives and will assist the students to be successful in academic, extracurricular and social activities; the ability to maintain on-program support in the students' home and host countries for the duration of the exchange; enhancement programming during the exchange in leadership development, civil society issues (including citizen activism and community service), and cultural enrichment; ongoing orientation and reentry training; community outreach to amplify the impact of the program and promote mutual understanding; and the ability to track and work with alumni to reinforce what was learned on the exchange and help them adjust to their home environments and apply what they acquired to promote the program's goals.

3. All grantees are required to include people with physical disabilities in the exchange.

4. Grant funding will be used to develop cultural orientation materials for use by all organizations that benefit from ECA grants under this initiative. Organizations may submit a proposal to develop these materials as a project by itself or as part of a grant for the exchange component.

5. Collaboration with Department of State efforts and networking with educational, civic, and other organizations to engage public schools and the American public in hosting participants in this program.

6. All exchange participants must travel on J-1 visas using DS2019s issued by the ECA program office under its program designation.

7. Grant funding will be available to pay for a percentage of the students in phase II exchanges to participate in a pre-academic English enhancement and cultural adjustment program, on an as-needed basis.

Please refer to the Solicitation Package for further information, especially the Project Objectives, Goals and Implementation (POGI) and the Proposal Submission Instructions (PSI).

Budget Guidelines

The number of grants awarded under phase I will be determined by the number of competitive proposals judged meritorious. The minimum bid for any organization is the amount needed to sponsor 40 students. There is no maximum bid limit. For phase II, in developing countries where there has been no previous exchange experience, the minimum number of students per country is 40. The objective is to foster the level of programming necessary to sustain an in-country organization in a cost-effective manner. See the POGI for additional budget details. Grants awarded to eligible organizations with less than four years of experience in conducting international exchange programs will be limited to $60,000. The Bureau encourages applicants to provide maximum levels of cost-sharing and funding from private sources in support of its programs.

Announcement Title and Number

All correspondence with the Bureau concerning this RFGP should reference the above title and number ECA/PE/C/PY-03-20.

FOR FURTHER INFORMATION CONTACT: The Youth Programs Division, Office of Citizen Exchanges, Bureau of Educational and Cultural Affairs, U.S. Department of State, 301 4th Street, SW, Washington, DC 20547, 202-619-6299, fax 619-5311, rpersiko@pd.state.gov to request the POGI and PSI. These documents contain detailed award criteria, required application forms, specific budget instructions, and standard guidelines for proposal preparation. Please specify Bureau Program Robert Persiko on all inquiries and correspondence.

Please read the complete Federal Register announcement before sending inquiries or submitting proposals. Once the RFGP deadline has passed, Bureau staff may not discuss this competition with applicants until the proposal review process has been completed.

To Download a Solicitation Package Via Internet

The entire Solicitation Package may be downloaded from the Bureau's Web site: http://exchanges.state.gov/education/RFGPs. Please read all information before downloading.

Deadline for Proposals

All proposal copies must be received at the Bureau of Educational and Cultural Affairs by 5 p.m. Washington, DC time on Monday, December 16, 2002. Faxed documents will not be accepted at any time. Documents postmarked the due date but received on a later date will not be accepted. Each applicant must ensure that the proposals are received by the above deadline.

Applicants must follow all instructions in the Solicitation Package. The original, one fully-tabbed copy, and eight copies with Tabs A-F of the application should be sent to:

U.S. Department of State, SA-44, Bureau of Educational and Cultural Affairs, Ref.: ECA/PE/C/PY-03-20, Program Management, ECA/EX/PM, Room 534, 301 4th Street, SW, Washington, DC 20547.

Applicants must also submit the “Executive Summary,” “Proposal Narrative,” budget sections and resumes, as well as important appendices, as e-mail attachments in Microsoft Word and Excel to the program office at rpersiko@pd.state.gov. The Bureau will transmit these files electronically to the Public Affairs Section at the U.S. embassies for their review, with the goal of reducing the time it takes to get embassy comments for the Bureau's grants review process.

Diversity, Freedom and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

Adherence to All Regulations Governing the J Visa

The Bureau of Educational and Cultural Affairs is placing renewed emphasis on the secure and proper administration of Exchange Visitor (J visa) Programs and adherence by grantees and sponsors to all regulations governing the J visa. Therefore, proposals should demonstrate the applicant's capacity to meet all requirements governing the administration of Exchange Visitor Programs as set forth in 22 CFR 6Z, including the oversight of Responsible Officers and Alternate Responsible Officers, screening and selection of program participants, provision of pre-arrival information and orientation to participants, monitoring of participants, proper maintenance and security of forms, record-keeping, reporting and other requirements. As noted above, ECA will be responsible for issuing DS-2019 forms to participants in this program. A copy of the complete regulations governing the administration of Exchange Visitor (J) programs is available at http://exchanges.state.gov/education/jexchanges, or from: United States Department of State, Office of Exchange Coordination and Designation, ECA/EC/ECD-SA-44, Room 734, 301 4th Street, SW., Washington, DC 20547, Telephone: (202) 401-9810, FAX: (202) 401-9809.

Review Process

The Bureau will acknowledge receipt of all proposals and will review them for technical eligibility. Proposals will be deemed ineligible if they do not fully adhere to the guidelines stated herein and in the Solicitation Package. All eligible proposals will be reviewed by the program office, as well as the Public Affairs personnel overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for assistance awards resides with the Bureau's Grants Officer.

Review Criteria

Technically eligible applications will be competitively reviewed according to the criteria stated below. The review is an assessment of the proposal's strengths and weaknesses in key areas. These criteria are not rank ordered and all carry equal weight in the proposal evaluation.

1. Quality of the program idea: Proposals should exhibit originality, substance, precision, and relevance to the Bureau's mission and the purposes outlined in the solicitation.

2. Program planning: Detailed agenda and relevant work plan should demonstrate the ability to ensure that the proposed project accomplishes the stated objectives in the desired time frame.

3. Multiplier effect/impact: Proposed programs should strengthen long-term mutual understanding, including maximum sharing of information and establishment of long-term institutional and individual ties both during the exchange and after the participants return home.

4. Support of Diversity: Proposals should demonstrate substantive support of the Bureau's policy on diversity in all program aspects including participants (exchange students and hosts), sending and hosting communities, orientation, and program activities. Proposals should articulate a diversity plan, not just a statement of compliance.

5. Institutional Capacity: Proposed personnel and institutional resources should be adequate and appropriate to achieve the program's goals. Proposals for infrastructure building should convincingly describe the need and the plan to address that need in specific terms (e.g., staffing, staff training, equipping and maintaining an office). The plan should demonstrate a thorough understanding of local requirements for establishing and registering an NGO.

6. Institution's Record/Ability: Proposals should demonstrate an institutional record of successful exchange programs, including responsible fiscal management and full compliance with all reporting requirements for past Bureau grants as determined by Bureau Grant Staff. The Bureau will consider the past performance of prior recipients and the demonstrated potential of new applicants.

7. Follow-on Activities: Proposals should provide a plan for continued contact with returnees to ensure that they are tracked over time, integrated into alumni associations, and provided opportunities to reinforce what the knowledge and skills they acquired on the exchange and share them with others.

8. Project Evaluation: The Bureau will provide baseline data and standard questionnaires for use in surveying participants and returnees to ensure that data is comparable from one program to another and will facilitate the demonstration of results. The proposal should indicate concurrence with this plan. Applicants may describe any experience conducting results-oriented evaluations. Successful applicants will be expected to submit intermediate reports after each project component is concluded or quarterly, whichever is less frequent.

9. Cost-effectiveness: The overhead and administrative components of the proposal, including salaries and honoraria, should be kept as low as possible. All other items should be necessary and appropriate.

10. Cost-sharing: Proposals should maximize cost-sharing through institutional direct funding contributions, as well as other private sector support.

11. Value to U.S.-Partner Country Relations: Proposed projects should receive positive assessments by the U.S. Department of State's geographic area desk and overseas officers of program need, potential impact, and the feasibility of the implementation plan.

Authority

Overall grant making authority for this program is contained in the Mutual Educational and Cultural Exchange Act of 1961, Pub. L. 87-256, as amended, also known as the Fulbright-Hays Act. The purpose of the Act is “to enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. Awards made will be subject to periodic reporting and evaluation requirements.

Notification

Final awards cannot be made until funds have been appropriated by Congress, allocated and committed through internal Bureau procedures.

Dated: October 21, 2002.
C. Miller Crouch,
Principal Deputy Assistant Secretary, Bureau of Educational and Cultural Affairs, Department of State.

[FR Doc. 02-27230 Filed 10-24-02; 8:45 am]

BILLING CODE 4710-05-U